DEPARTMENT OF TRANSPORTATION

Federal Aviation Administration

14 CFR Part 91

[Docket No. FAA-2007-29305; Amdt. No. 91-316]

RIN 2120-AI92

Automatic Dependent Surveillance—Broadcast (ADS-B) Out Performance Requirements To Support Air Traffic Control (ATC) Service; Technical Amendment

AGENCY: Federal Aviation Administration, DOT.

ACTION: Final rule; technical amendment.

SUMMARY: The FAA is making minor technical changes to a final rule published in the Federal Register on May 28, 2010. In that final rule the FAA amended its regulations to add equipage requirements and performance standards for Automatic Dependent Surveillance—Broadcast (ADS-B) Out avionics on aircraft operating in Classes A, B, and C airspace, as well as certain other specified classes of airspace within the U.S. National Airspace System (NAS). This technical amendment changes a cross reference to a section in part 21 subpart O to be consistent with revisions to that subpart.

DATES: Effective April 16, 2011.

FOR FURTHER INFORMATION CONTACT: For technical questions concerning this final rule, contact Vincent Capezzuto, Surveillance and Broadcast Services, AJE-6, Air Traffic Organization, Federal Aviation Administration, 800 Independence Avenue, SW., Washington, DC 20591; telephone (202) 385-8637; e-mail vincent.capezzuto@faa.gov.

For legal questions concerning this final rule, contact Lorelei Peter, Office of the Chief Counsel, AGC-220, Federal Aviation Administration, 800 Independence Avenue, SW., Washington, DC 20591; telephone 202-267-3134; e-mail lorelei.peter@faa.gov.

SUPPLEMENTARY INFORMATION:

Background

On October 16, 2009, the FAA published a separate rulemaking entitled “Production and Airworthiness Approval, Part Marking, and Miscellaneous Amendments” (74 FR 53368) in which the FAA revised part 21 subpart O. As part of that revision, current § 21.609 Approval for deviation was renumbered as § 21.618, effective April 14, 2010.

On May 28, 2010, the FAA published a final rule entitled, “Automatic Dependent Surveillance—Broadcast (ADS-B) Out Performance Requirements To Support Air Traffic Control (ATC) Service” (75 FR 30160). In that final rule, the FAA referenced § 21.618 Approval for deviation in both the preamble and the regulatory text of §§ 91.225 and 91.227. The FAA later published a correction to the October 16, 2009, part 21 rule on March 1, 2010 (75 FR 9095) changing the effective date for the revision of subpart O to April 16, 2011. The FAA inadvertently did not reflect the section is currently numbered § 21.609 and explain that it would become § 21.618 on April 16, 2011.

By a correction document published elsewhere in this issue of the Federal Register, the FAA is correcting the cross reference to read “§ 21.609” in the May 28, 2010, ADS-B final rule.

This technical amendment amends §§ 91.225 and 91.227 to revise the cross references to § 21.609 to read § 21.618 effective April 16, 2011.

Discussion of Technical Amendment

As discussed above, this action makes the appropriate amendatory change to revise cross references to § 21.609 to read “§ 21.618” in §§ 91.225 and 91.227. This amendment will not impose any additional restrictions on operators affected by these regulations.

On April 16, 2011, the effective date of this technical amendment, the cross reference appearing on page 30164 in the preamble of the May 28, 2010, final rule, which now reads “§ 21.618” and is being corrected to read “§ 21.609” elsewhere in this issue of the Federal Register, will revert to reading “§ 21.618.”

List of Subjects in 14 CFR Part 91

Aircraft, Airmen, Air traffic control, Aviation safety, Incorporation by Reference, Reporting and recordkeeping requirements.

The Amendment

Accordingly, title 14 of the Code of Federal Regulations (CFR) part 91 is amended as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 stat.1180).

§ 91.225 [Amended]

2. Amend § 91.225 (c) by revising “§ 21.609” to read “§ 21.618.”

§ 91.227 [Amended]

3. Amend § 91.227 (f) by revising “§ 21.609” to read “§ 21.618.”

Issued in Washington, DC, on June 24, 2010.
Pamela Hamilton-Powell,
Director, Office of Rulemaking.

[FR Doc. 2010-15853 Filed 6-29-10; 8:45 am]

BILLING CODE 4910-13-P